DEPARTMENT OF THE TREASURY

Internal Revenue Service

26 CFR Part 301

[TD 9380]

RIN 1545-BC45

Substitute for Return; Correction

AGENCY: Internal Revenue Service (IRS), Treasury.

ACTION: Correction to final regulations and removal of temporary regulations.

SUMMARY: This document corrects final regulations and removal of temporary regulations (TD 9380) that was published in the Federal Register on Wednesday, February 20, 2008 (73 FR 9188), relating to substitutes for returns.

DATES: The correction is effective March 13, 2008.

FOR FURTHER INFORMATION CONTACT: Alicia E. Goldstein at (202) 622-3630 (not a toll-free number).

SUPPLEMENTARY INFORMATION:

Background

The final regulations and removal of temporary regulations, (TD 9380) that is the subject of this correction is under section 6020 of the Internal Revenue Code.

Need for Correction

As published, TD contains errors that may prove to be misleading and are in need of clarification.

Correction of Publication

Accordingly, the publication of final regulations and removal of temporary regulations (TD 9380) that were the subject of FR. Doc. E8-3100, are corrected as follows:

1. On page 9188, in the preamble, column 2, under the paragraph heading “Background”, first full paragraph of the column, line 17, the language “prompted the IRS and the Treasury” is corrected to read “prompted the Service and the Treasury”.

2. On page 9188, in the preamble, column 2, under the paragraph heading “Background”, second full paragraph of the column, line 1, the language “The IRS and the Treasury Department” is corrected to read “The Service and the Treasury Department”.

3. On page 9188, in the preamble, column 3, under the paragraph heading “Explanation of Provisions and Summary of Comments”, second full paragraph of the column, line 12, the language “taxpayer; and because the IRS was” is corrected to read “taxpayer, and because the Service was”.

4. On page 9188, in the preamble, column 3, under the paragraph heading “Explanation of Provisions and Summary of Comments”, lines 1 through 6, the language “After considering these comments, the IRS and the Treasury Department have concluded that they provide no basis for adopting changes in the final regulations. In particular, the argument that the IRS should not be able to decide” is corrected to read “After considering these comments, the Service and the Treasury Department have concluded that they provide no basis for adopting changes in the final regulations. In particular, the argument that the Service should not be able to decide”.

LaNita Van Dyke,
Chief, Publications and Regulations Branch, Legal Processing Division, Associate Chief Counsel (Procedure and Administration).

[FR Doc. E8-4863 Filed 3-12-08; 8:45 am]

BILLING CODE 4830-01-P